DEPARTMENT OF TRANSPORTATION

National Highway Traffic Safety Administration

[Docket No. NHTSA 2004-18973; Notice 2]

Michelin North America, Inc., Grant of Petition for Decision of Inconsequential Noncompliance

Michelin North America, Inc. (Michelin) has determined that the sidewall markings on certain tires that it manufactured in 1993 through 2004 do not comply with S6.5(d) of 49 CFR 571.119, Federal Motor Vehicle Safety Standard (FMVSS) No. 119, “New pneumatic tires for vehicles other than passenger cars.” Pursuant to 49 U.S.C. 30118(d) and 30120(h), Michelin has petitioned for a determination that this noncompliance is inconsequential to motor vehicle safety and has filed an appropriate report pursuant to 49 CFR part 573, “Defect and Noncompliance Reports.” Notice of receipt of a petition was published, with a 30-day comment period, on September 14, 2004, in the Federal Register (69 FR 55491). NHTSA received one comment.

A total of approximately 97,468 tires are affected. This includes approximately 68,950 Michelin tires consisting of 24,644 LT215/85R16XPS Rib; 35,934 LT225/75R16 XPS Rib; 5,348 LT215/85R16 XPS Traction; and 3,024 8.75R16.5 XPS Rib tires manufactured from May 1, 2003 through the week beginning July 12, 2004. It also includes 28,518 Michelin 8.75R16.5 XPS Rib tires manufactured from approximately mid-1993 through the week beginning July 12, 2004. The sidewall load and inflation markings of these two groups of tires do not comply with S6.5(d), “Tire markings.” S6.5(d) requires that each tire shall be marked on each sidewall with “[t]he maximum load rating and corresponding inflation pressure of the tire” in both metric and English units.

The sidewall load and inflation markings on the 68,950 tires manufactured from May 1, 2003 through the week beginning July 12, 2004 are in English units only and do not have the metric units required by S6.5(d). The sidewall load and inflation markings on the 28,518 tires manufactured from approximately mid-1993 through the week beginning July 12, 2004 are incorrect for the Max. Load Dual category; the tires are marked “2550 lbs at 75 psi” when they should be marked “2405 lbs at 80 psi.”

Michelin believes that the noncompliance is inconsequential to motor vehicle safety and that no corrective action is warranted. With regard to the tires that are marked in English units only, Michelin stated that the tires are manufactured for sale in the U.S. replacement market where the English system is universally comprehended, and the maximum load expressed in “lbs.” and air pressure expressed in “psi” will not confuse U.S. vehicle owners, nor result in unsafe use of the tires in terms of load or inflation values. With regard to the tires that are marked with the incorrect Max. Load Dual load and inflation, Michelin asserted that

“[w]hen both single and dual loads are marked on the tire (as is the case here), FMVSS No. 119 requires that performance compliance testing be done based on the single (higher, more punishing) tire load. Accordingly, the incorrect dual load marking is inconsequential for this tire. * * * Even at the lower, more punishing pressure of 75 psi, the tire meets all FMVSS No. 119 minimum performance requirements.”

NHTSA received one comment on this petition from a private individual that did not address the effect on motor vehicle safety of this noncompliance.

NHTSA agrees that the noncompliance is inconsequential to motor vehicle safety because the maximum load expressed in “lbs.” and air pressure expressed in “psi” will not confuse U.S. vehicle owners, nor result in unsafe use of the tires in terms of load or inflation values. The agency also agrees that safety will not be compromised for the tires marked with the incorrect “max load dual” since the more severe “max load single” load is marked correctly. In addition, these tires meet or exceed all of the performance requirements of FMVSS No. 119, and all other informational markings as required by FMVSS No. 119 are present. Michelin has corrected the problem.

In consideration of the foregoing, NHTSA has decided that the petitioner has met its burden of persuasion that the noncompliance described is inconsequential to motor vehicle safety. Accordingly, Michelin's petition is granted and the petitioner is exempted from the obligation of providing notification of, and a remedy for, the noncompliance.

Authority: (49 U.S.C. 30118, 30120; delegations of authority at CFR 1.50 and 501.8).

Issued on: October 20, 2004.
Kenneth N. Weinstein,
Associate Administrator for Enforcement.

[FR Doc. 04-23876 Filed 10-25-04; 8:45 am]

BILLING CODE 4910-59-P